DEPARTMENT OF ENERGY

Federal Energy Regulatory Commission

[Docket No. AD03-10-000]

Western Energy Infrastructure Conference; Notice of Technical Conference and Agenda

June 27, 2003.

As announced in the Notice of Conference issued on June 2, 2003, the Federal Energy Regulatory Commission (FERC) will hold a conference on July 30, 2003 to discuss issues regarding energy infrastructure in the western states. These states include Washington, Oregon, California, Nevada, Idaho, Utah, Arizona, Montana, Wyoming, Colorado, and New Mexico. This half-day conference will begin at 2 p.m. and conclude at approximately 6 p.m., and will be held at the Marriott Denver City Center, 1701 California Street, Denver, Colorado (1-800-228-9290). All interested persons are invited to attend.

The conference will focus on the adequacy of the electric, gas and hydropower energy infrastructure in the West. The FERC Commissioners will attend, and the Governors, legislators, state utility commissioners, tribal delegates of the western states, as well as international representatives from Canada and Mexico, have been invited to participate. The goal is to identify the current state of infrastructure in the West, present and future infrastructure needs, and the means for and barriers to fulfilling those needs. We look forward to an informative discussion of the issues to clarify how we can facilitate and enhance a comprehensive, collaborative approach to energy infrastructure development and reliability for the western states. It is becoming increasingly clear that a well-functioning energy infrastructure is necessary to meet America's energy demands.

The conference Agenda is appended to this Notice. As indicated, the purpose of the conference is to discuss regional infrastructure issues among the panelists, and federal and state officials. It is not intended to deal with issues pending in individually docketed cases before the Commission, such as applications involving hydropower, natural gas certificates, or the formation of Regional Transmission Organizations. Therefore, all participants are requested to address the agenda topics and avoid discussing the merits of individual proceedings.

Opportunities for Listening to and Obtaining Transcripts of the Conference

The Capital Connection will offer this meeting live via telephone and audio on the internet for a fee. There will not be live video coverage or videotapes of the conference. For more information about Capitol Connection's services, contact David Reininger or Julia Morelli (703-993-3100), or go to http://www.capitolconnection.org.

Audio tapes of the meeting will be available from VISCOM (703-715-7999).

Additionally, transcripts of the conference will be immediately available from Ace Reporting Company (202-347-3700 or 1-800-336-6646), for a fee. They will be available for the public on the Commission's FERRIS system two weeks after the conference.

A reminder to please register for the conference online on the Commission Web site at http://www.ferc.gov/home/conferences.asp. Scroll down and click on “Western Energy Infrastructure Conference in Denver, CO”. There is no registration fee.

Questions about the conference program should be directed to: Carol Connors, Office of External Affairs, Federal Energy Regulatory Commission, 888 First Street, NE., Washington, DC 20426, carol.connors@ferc.gov.

Magalie R. Salas,
Secretary.

Attachment: Conference Agenda

Marriott Denver City Center, 1701 California Street, Denver, Colorado,

July 30, 2003.

I. Opening Remarks and Introductions—2 p.m. to 2:10 p.m.

Chairman Pat Wood, Commissioner William Massey, Commissioner Nora Brownell.

II. Overview of Current Energy Infrastructure—2:10 p.m. to 2:20 p.m.

Jeff Wright, Office of Energy Projects, FERC.

III. Forecasting Future Energy Infrastructure Needs—2:20 p.m. to 2:40 p.m.

Todd Filsinger, Senior Partner, Wholesale Energy Markets, PA Consulting Group.

IV. New Electric Generation—2:45 p.m. to 3:30 p.m.

Can new electric generation meet Western demand?

• Economic and financial barriers to new generation—Rebecca Followill, Gas and Power Group, Howard Weil Investment Counselors

• Fueling new generation—Peter Moritzburke, Director, Western Energy Office, Cambridge Energy Research Associates

• Retirement forecast/reserve margin—Jeremy Platt, Manager, Power & Fuel Markets, Electric Power Research Institute (EPRI), one author of a recently released EPRI report, “Outlook for Capacity Retirements Following U.S. Boom in New Supplies: Report Series on Natural Gas and Power Reliability, February 2003”

• Demand response successes—Charles Goldman, Leader, Electricity Markets and Policy Group, Lawrence Berkeley National Laboratory

V. Natural Gas—3:35 p.m. to 4:20 p.m.

Can natural gas meet future energy needs in the West?

• Traditional natural gas supply availability—Roger Biemans, President, EnCana US

• Rocky Mountains infrastructure needs/Coal-bed methane developing technology—Brian Jeffries, Vice President, Marketing, Western Gas Resources

• Role of Liquified Natural Gas (LNG) facilities in gas supply—Darcel Hulse, President, Sempra Global

• Canadian gas update—Bill Bingham, Acting Business Leader, Commodity Unit, National Energy Board-Canada/NEB

• Mexican gas update—Francisco de la Isla, General Director, Economic Policy Unit, Comision Reguladora de Energia/CRE

VI. Electric Transmission—4:25 p.m. to 5:10 p.m.

Can the electric transmission system get generation to load centers?

• Siting issues in the West, e.g., federal land corridors—Ronald Montagna, Senior Realty Specialist, Bureau of Land Management /White House Energy Task Force

• Major transmission constraints—Armando Perez, Director of Grid Planning, California Independent System Operator

• Bonneville Power Administration's role and future plans—Vickie VanZandt, Vice President of Operation and Planning, Bonneville Power Administration

• State of regional transmission planning—Dean Perry, Chairman of the Planning Work Group, Seams Steering Group-Western Interconnection/SSG-WI

• Industry participation in new transmission infrastructure—Frederic Stoffel, Vice President, Policy Development, XCEL Energy

VII. Discussion by State, Federal, Tribal and International Officials—5:15 p.m. to 6 p.m.

What conclusions have been reached and what are the next steps?

• Public Utility Commissioners—Washington, Oregon, California, Nevada, Idaho, Utah, Arizona, Montana, Wyoming, Colorado, New Mexico (invited)

• Tribal Representatives—A. David Lester, Executive Director, Council of Energy Resource Tribes (CERT), and Roger B. Fragua, Deputy Director, CERT

• Elected Officials or their Senior Designees—Governors, Congressional and/or State legislators (invited)

• Francisco de la Isla, General Director, Economic Policy Unit, CRE-Mexico, and Bill Bingham, Acting Business Leader, Commodity Unit, NEB-Canada

• Closing Remarks

[FR Doc. 03-16850 Filed 7-2-03; 8:45 am]

BILLING CODE 6717-01-P